DEPARTMENT OF DEFENSE

Department of the Army

Availability for Non-Exclusive, Exclusive, or Partially Exclusive Licensing of U.S. Patent Concerning Multi-Purpose Self-Erecting Structure Having Advanced Insect Protection and Storage Characteristics

AGENCY: Department of the Army, DoD.

ACTION: Notice.

SUMMARY: In accordance with 37 CFR 404.6 and 404.7, announcement is made of the availability for licensing of U.S. Patent No. 6,672,323 entitled “Multi-Purpose Self-Erecting Structure Having Advanced Insect Protection and Storage Characteristics,” issued January 6, 2004. The United States Government, as represented by the Secretary of the Army, has rights in this invention.

ADDRESSES: Commander, U.S. Army Medical Research and Materiel Command, Attn: Command Judge Advocate, MCMR-ZA-J, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: The self-erecting structure has resilient lower and upper support loops which provide it with shape and support. Fabric covers the support loops, and is permanently affixed to the support loops. The fabric has a lower, waterproof portion and an upper insect protection portion. The fabric is preferably treated to provide it with insect repellent and insecticide properties. The support loops are made of flexible, resilient rods made of a material, such as a vinylester and fiberglass combination having a diameter selected to enable the support loops to be folded into six loops, whereby the structure can be compactly stored in a rucksack. The method of folding the structure so that it can be stored in such a compact space is also disclosed.

Brenda S. Bowen,
Army Federal Register Liaison Officer.

[FR Doc. 05-3903 Filed 2-28-05; 8:45 am]

BILLING CODE 3710-08-M